DEPARTMENT OF HEALTH AND HUMAN SERVICES

Indian Health Service

Indian Women's Health Demonstration Program for American Indians and Alaska Natives

AGENCY: Indian Health Service, HHS.

ACTION: Extension of deadlines for competitive applications for the Indian Women's Health Demonstration Program for American Indians and Alaska Natives.

The Notice of funding availability for competitive grants for Indian Women's Health Demonstration Program for American Indians and Alaska Natives was published at 67 FR 66410 on October 31, 2002.

The Indian Health Service announces the extension of dates for the following:

1. Application Receipt Date: January 3, 2003.

2. Application Review: January 23-24, 2003.

3. Applicants Notified of Results (approved, approved unfunded, or disapproved): February 13, 2003.

4. Anticipated Start of Grant Cycle: March 1, 2003.

Applicants are notified in writing on or about February 13, 2003.

This extension provides applicants approximately four additional weeks to prepare and submit competitive applications.

All other information contained in Federal Register announcement remains unchanged.

Dated: November 18, 2002.
Charles W. Grimm,
Assistant Surgeon General, Interim Director, Indian Health Service.

[FR Doc. 02-29865 Filed 11-22-02; 8:45 am]

BILLING CODE 4160-16-M